FEDERAL COMMUNICATIONS COMMISSION

47 CFR Part 73

[DA 03-3552; MB Docket No. 03-231, RM-10818]

Radio Broadcasting Services; Centre Hall, Huntingdon, Mt. Union, and South Williamsport, PA

AGENCY: Federal Communications Commission.

ACTION: Proposed rule.

SUMMARY: This document sets forth a proposal to amend the FM Table of Allotments, Section 73.202(b) of the Commission's rules, 47 CFR 73.202(b). The Commission requests comment on a petition filed by Megahertz Licenses, LLC, licensee of Station WXMJ(FM), Mount Union, Pennsylvania, and of Station WWLY(FM), Huntingdon, Pennsylvania. Petitioner proposes to delete Channel 292A at Huntingdon, Pennsylvania, to allot Channel 292A at Mount Union, Pennsylvania, and to modify the license of Station WWLY(FM) accordingly. Petitioner also requests the substitution of Channel 258B1 for Channel 258A and the reallotment of that channel from Mount Union to Centre Hall, Pennsylvania, and the modification of the license of Station WXMJ(FM) accordingly. In order to accomplish these allotment changes, Petitioner further proposes to change the transmitter site for Station WZXR(FM), South Williamsport, Pennsylvania, operating on Channel 257A. The transmitter site for Channel 257A at South Williamsport can be changed, in compliance with the Commission's minimum distance separation requirements, to 41-14-06 NL and 76-51-02 WL. Those reference coordinates reflect a site restriction of 12.5 km (7.8 miles) east of South Williamsport. That change in reference coordinates for Channel 257A at South Williamsport permits the allotment changes proposed at Mount Union and Centre Hall. Channel 258B1 can be allotted to Centre Hall in compliance with the Commission's minimum distance separation requirements with a site restriction of 14.0 km (8.7 miles) southwest of Centre Hall. The coordinates for Channel 258B1 at Centre Hall are 40-46-39 North Latitude and 77-49-26 West Longitude. Channel 292A can be allotted to Mount Union in compliance with the Commission's minimum distance separation requirements with a site restriction of 14.5 km (9.0 miles) south of Mount Union. The coordinates for Channel 292A at Mount Union are 40-15-18 North Latitude and 77-51-41 West Longitude. See Supplementary Information infra.

DATES: Comments must be filed on or before January 5, 2004, and reply comments on or before January 20, 2004.

ADDRESSES: Federal Communications Commission, Washington, DC 20554. In addition to filing comments with the FCC, interested parties should serve counsel for the petitioner as follows: Allen G. Moskowitz, Kay Scholer LLP, 901 Fifteenth Street, NW., Suite 1100, Washington, DC 20005.

FOR FURTHER INFORMATION CONTACT: Deborah A. Dupont, Media Bureau (202) 418-7072.

SUPPLEMENTARY INFORMATION: This is a synopsis of the Commission's Notice of Proposed Rule Making, MB Docket No. 03-231, adopted November 12, 2003 and released November 14, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Pennsylvania, is amended by adding Centre Hall, Channel 258B1, by removing Channel 292A at Huntingdon, and by removing Channel 258A and adding Channel 292A at Mount Union.

Federal Communications Commission.
John A. Karousos,
Assistant Chief, Audio Division, Media Bureau.

[FR Doc. 03-29860 Filed 12-1-03; 8:45 am]

BILLING CODE 6712-01-P